DEPARTMENT OF TRANSPORTATION

Federal Aviation Administration

14 CFR Part 71

[Docket No. FAA-2017-1091; Airspace Docket No. 17-AWP-26]

RIN 2120-AA66

Amendment of Class D and Class E Airspace; Atwater, CA

AGENCY: Federal Aviation Administration (FAA), DOT.

ACTION: Final rule.

SUMMARY: This action modifies Class D airspace and Class E airspace extending upward from 700 feet above the surface at Castle Airport, Atwater, CA. Additionally, the airport's geographic coordinates have been updated to match the FAA's aeronautical database and the outdated term Airport/Facility Directory is replaced with Chart Supplement in Class D airspace. Airspace redesign is necessary as the FAA transitions from ground-based to satellite-based navigation for the safety and management of instrument flight rules (IFR) operations at this airport due to the decommissioning of the El Nido VHF Omnidirectional Range/Distance Measuring Equipment (VOR/DME).

DATES: Effective 0901 UTC, February 28, 2019. The Director of the Federal Register approves this incorporation by reference action under Title 1, Code of Federal Regulations, part 51, subject to the annual revision of FAA Order 7400.11 and publication of conforming amendments.

ADDRESSES: FAA Order 7400.11, Airspace Designations and Reporting Points, and subsequent amendments can be viewed on line at http://www.faa.gov/air_traffic/publications/. For further information, you can contact the Airspace Policy Group, Federal Aviation Administration, 800 Independence Avenue SW, Washington, DC, 20591; telephone: 202-267-8783. The Order is also available for inspection at the National Archives and Records Administration (NARA).

For information on the availability of this material at NARA, call 202-741-6030, or go to https://www.archives.gov/federal-register/cfr/ibr-locations.html.

FAA Order 7400.11, Airspace Designations and Reporting Points, is published yearly and effective on September 15.

FOR FURTHER INFORMATION CONTACT: Richard Roberts, Federal Aviation Administration, Operations Support Group, Western Service Center, 2200 S 216th St, Des Moines, WA 98198-6547; telephone (206) 231-2245.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class D and Class E airspace at Castle Airport, Atwater, CA.

History

The FAA published a notice of proposed rulemaking in the Federal Register (83 FR 3100; January 23, 2018) for Docket No. FAA-2017-1091 to amend Class D and Class E airspace extending upward from 700 feet above the surface, at Castle Airport, Atwater, CA. Interested parties were invited to participate in this rulemaking effort by submitting written comments on the proposal to the FAA. Fifteen comments were received, of which twelve were from local political organizations, aviation companies, and the public. In addition, two were duplicates and one was an illustration of a recommended amendment to the rulemaking proposal.

Four commenters stated the reasons for the airspace modifications were not clear. The FAA agrees and is including a clearer explanation in the final rule. The proposed modifications are required to bring the airspace into compliance with the common standards required by the FAA, in its orders, directives and guidance. The FAA initiated modifications to the Castle Airport airspace to ensure aircraft arriving Runway (RWY) 31 on the RNAV, VOR/DME, or ILS approaches descend through 1,000 feet above ground level (AGL) within the Class D airspace; that IFR departures from Castle Airport and Merced Regional/Macready Field have adequate airspace to depart and that the minimum airspace needed for safe and efficient terminal IFR and visual flight rules (VFR) operations is maintained.

Three commenters were concerned with the economic impact to local businesses in Merced and Atwater, CA. Based on those comments, the FAA considered the operational and economic advantages offered by both Castle Airport, Atwater CA. and Merced Regional/Macready Field, Merced CA., including the importance and interest to the commerce and welfare of the respective communities. The FAA made accommodations, as indicated below, in the design of the airspace.

The Aircraft Owners and Pilots Association (AOPA) in its comments stated that the Merced Regional/Macready Field Class E2 airspace fulfilled the requirement to ensure the lateral boundary of the Castle Airport Class D area is congruent with the beginning of controlled airspace. The FAA agrees. However, the Merced Regional/Macready Field Class E2 airspace does not provide the airspace needed to protect aircraft on approach to Castle Airport as they descend through 1,000 feet AGL and meet FAA criteria for extensions of less than 2 miles. Thus, the Class D airspace southwest lateral boundary, within the Merced Regional/Macready Field Class E2 area, has been expanded to coincide with the rail line and protects Castle Airport IFR arrivals. AOPA further commented, “In determining the final configuration of the Castle Airport Class D airspace, it is important the safety and operational impacts it would have on Merced Regional/Macready Field be weighed as well.” The FAA agrees all users have the public right of freedom of transit through the NAS. Accordingly, while a sincere effort was made to negotiate equitable solutions regarding the use of the NAS, preservation and safety of aviation was the primary emphasis.

We do not agree that defining the Class D lateral boundary from the 297° bearing to the 147° bearing meets the minimum FAA criteria and provides the necessary safety for arrivals and departures from Castle Airport. This configuration would not provide adequate airspace for Castle Airport departures using the Diverse Vector Area or RWY 31 Obstacle Departure Procedure, as it would not meet FAA criteria and provide 1.8 nm either side of the track to be flown.

The FAA did agree that modifying the Class D southwest lateral boundary to the rail line will facilitate arrivals to and departures from Merced Regional/Macready Field without affecting Castle Airport departures and allow adequate airspace for the Castle Airport arrivals to RWY 31.

AOPA also stated that the NPRM did not comply with FAA guidance in Order JO 7400.2, Procedures for Handling Airspace Matters, because a graphic was not included in the docket. Additionally, AOPA encouraged the FAA to follow its own guidance by making the action effective date concurrent with publication of the VFR Sectional.

The FAA has determined AOPA's comments raised no substantive issues related to the proposed changes to the airspace addressed in the NPRM. To the extent the FAA failed to follow its policies related to publishing graphics in the docket and establishing the Class D and E airspace effective date coincidental to the sectional chart date, we note the following. The FAA provided graphics for this proposal on February 15, 2018.

AOPA's comment concerning the FAA creating a graphical depiction of new or modified airspace overlaid on a Sectional Chart for quality assurance purposes is not correct and the requirement to include all information in the Docket does not extend to working files. During the airspace reviews, airspace graphics may be created, if deemed necessary, to determine if there are terrain issues, or if cases are considered complex; in many cases, a graphic is not needed when developing an airspace proposal. Additionally, AOPA encouraged the FAA to follow its own guidance by making the action effective date concurrent with publication of the VFR Sectional. With respect to AOPA's comment addressing effective dates, FAA Order 7400.2L, paragraph 2-3-7.a.4. states that, to the extent practicable, Class D airspace areas and restricted areas should become effective on a sectional chart date and that consideration should be given to selecting a sectional chart date that matches a 56-day enroute chart cycle date. The FAA does consider establishing effective dates for Class D and E airspace amendments so they coincide with the publication of sectional charts, to the extent practicable, but this consideration is accomplished after the NPRM comment period ends. Substantive comments received to NPRMs, flight safety concerns, management of IFR operations at affected airports, and immediacy of requiring proposed airspace amendments are some of the factors taken into consideration when selecting the appropriate effective date. After considering all factors, the FAA may determine that selecting an effective date that conforms to a 56-day enroute chart cycle date not coincidental to sectional chart dates is better for the NAS and users rather than awaiting publication of the next VFR sectional.

Two commenters requested the boundary for Castle Airport be rotated 10-15 degrees to facilitate straight out/in departure and arrival IFR operations and maintain adequate left and right runway centerline at Merced Regional/Macready Field.

The FAA agreed and rotated that portion of the Castle Airport Class D airspace lateral boundary outside the Merced Regional/Macready Field Airport Class E2 area, 12 degrees counterclockwise from 139° True (T) to 127° (T) and that portion within 4 nm of the Merced Regional/Macready Field Airport ARP to 114° (T), coinciding with the rail line, as previously noted. In addition, two commenters requested that Highway 99 be used for the southwest lateral boundary to leave room for straight-out departures from RWY 30 at Merced. While the FAA agrees a modification to the southwest lateral boundary is appropriate, it has opted to use the rail line .2 nm west of highway 99, as requested in six other comments. This will allow aircraft departing from Castle Airport the airspace needed to operate efficiently and safely, and Merced Regional/Macready Field departures adequate airspace to operate without having to contact the Castle Airport Traffic Control Tower adequate space for stabilized approaches, and the ability to conduct VFR practice instrument approaches without additional coordination and straight-out departures from RWY 30.

Five commenters were concerned with the airspace directly over the city of Atwater, CA, describing it as congested and having reduced visibility due to hazy weather conditions much of the time. They were concerned with the infrastructure on the ground and identified controlled airspace as critical to the safety of its citizens.

The FAA agrees with the concerns voiced by local governments, the area directly over the city of Atwater, CA, underlies controlled airspace beginning at 700 feet AGL. Fixed wing aircraft in this airspace must operate at or above 1000 feet above the highest obstacle, must have 3 miles of visibility, and operate 500 feet below and 1000 feet above clouds. In addition, Air Traffic Control can issue pilots in this area control instructions. However, because of the potential for Merced Regional/Macready Field VFR arrivals and departures transiting this area without establishing communications and the potential for these aircraft mixing with Castle Airport IFR arrivals and departures, the use of the Castle Airport traffic pattern, and implementation of a DVA, the lateral boundary is established at 127° in the area outside the Merced Regional/Macready Field Class E2 area.

Class D and Class E airspace designations are published in paragraphs 5000, 6002, 6004, and 6005, respectively, of FAA Order 7400.11C, dated August 13, 2018, and effective September 15, 2018, which is incorporated by reference in 14 CFR part 71.1. The Class D and Class E airspace designation listed in this document will be published subsequently in the Order.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

This amendment to Title 14, Code of Federal Regulations (14 CFR) part 71 modifies Class D airspace and Class E airspace extending upward from 700 feet above the surface, at Castle Airport, Atwater, CA.

The airspace has been redesigned by modifying Class D airspace to within a 4.6-mile (from a 4.5-mile) radius of the airport from the airport 278° bearing clockwise to the airport 148° bearing. This modification provides additional Class D airspace south of the airport and removes Class D airspace southwest and northwest of the airport, thereby containing IFR arrival aircraft descending through 1,000 feet above the surface, and removing airspace not required for IFR operations. Also, this action removes the reference to the El Nido VOR/DME in the legal description due to its planned decommissioning as the FAA transitions from ground-based to satellite-based navigation.

Class E airspace extending upward from 700 feet above the surface is modified to within a 7.2-mile (from a 7-mile) radius of the airport, and removes the 23-mile extension northwest of the airport.

Additionally, the airport's geographic coordinates are updated to match the FAA's aeronautical database for the Class D and Class E airspace areas. An editorial change is also made to the Class E surface area airspace legal description replacing “Airport/Facility Directory” with “Chart Supplement”.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018, and effective September 15, 2018, is amended as follows:

Paragraph 5000 Class D Airspace.

* * * * *

AWP CA D Atwater, CA [Amended]

Castle Airport, CA

(Lat. 37°22′50″ N, long. 120°34′06″ W)

That airspace extending upward from the surface up to but not including 2,000 feet MSL within a 4.6-mile radius of Castle Airport beginning at the 278° bearing from the airport clockwise to the 114° bearing, thence northwest to the point where the 182° bearing intersects the Merced Regional/Macready Airport Class E2, thence to the point of beginning. This Class D airspace area is effective during the specific dates and times established in advance by a Notice to Airmen. The effective date and time will thereafter be continuously published in the Chart Supplement.

Paragraph 6005 Class E Airspace Areas Extending Upward From 700 Feet or More Above the Surface of the Earth.

* * * * *

AWP CA E5 Atwater, CA [Amended]

Castle Airport, CA

(Lat. 37°22′50″ N, long. 120°34′06″ W)

That airspace extending upward from 700 feet above the surface within a 7.2-mile radius of Castle Airport.

Issued in Seattle, Washington, on October 19, 2018.
Shawn M. Kozica,
Manager, Operations Support Group, Western Service Center.

[FR Doc. 2018-23476 Filed 10-26-18; 8:45 am]

BILLING CODE 4910-13-P